OFFICE OF MANAGEMENT AND BUDGET

Office of Federal Procurement Policy

Proposed Rescission of OMB Circular A-109, Major System Acquisitions

AGENCY: Office of Management and Budget, Office of Federal Procurement Policy.

ACTION: Proposed rescission of OMB Circular A-109, Major System Acquisitions.

SUMMARY: The Office of Management and Budget (OMB) issued Circular A-109, “Major System Acquisitions,” in 1976 to provide uniform guidance to the Executive Branch agencies on the acquisition of major systems. Since then, OMB has provided guidance on asset acquisition under Part 3 of Circular A-11, Planning, Budgeting, and Acquisition of Capital Assets, the Capital Programming Guide, Supplement to Part 3 of A-11, and Circular A-130, Management of Federal Information Resources. In an effort to eliminate duplicate guidance, OMB requests comments on the proposed rescission of Circular A-109.

DATES: Persons who wish to comment on the proposed rescission should submit their comments no later than October 31, 2000.

ADDRESSES: Comments should be addressed to Yvette Garner, Office of Federal Procurement Policy, Room 9013 New Executive Office Building, Washington, DC 20503.

FOR FURTHER INFORMATION CONTACT: Yvette Garner, Office of Federal Procurement Policy, 202-395-7187. Only hard copies of OMB Circular A-109 are available and can be obtained from Yvette Garner. Copies of Part 3 of OMB Circular A-11, the Capital Programming Guide, and OMB Circular A-130 can be obtained from the OMB website, http://www.whitehouse.gov/OMB.

SUPPLEMENTARY INFORMATION: The Federal Government has been working to manage better the planning, budgeting, and acquisition of capital assets. The National Performance Review in 1993 and various legislation have heightened the importance to agencies and to Congress that the Government must improve its performance in this area. The Clinger Cohen Act of 1996 also provided guidance to executive agencies to establish effective and efficient capital planning processes for selecting, managing, and evaluating the results of all of its major investments in information systems.

OMB issued Circular A-109, “Major System Acquisitions,” in 1976 to the Heads of Executive Departments and Establishments. In recent years, OMB has issued additional, separate guidance on asset acquisition. OMB guidance under Part 3 of Circular A-11 provides information on planning, budgeting, and acquisition of capital assets. The Capital Programming Guide, Supplement to Part 3 of Circular A-11, also provides professionals in the Federal Government a basic reference to principles and techniques for planning, budgeting, acquisition, and management of capital assets. Circular A-130 establishes uniform government-wide information resources management policies as required by the Paperwork Reduction Act of 1980, as amended by the Paperwork Reduction Act of 1995, 44 U.S.C. Chapter 35.

In an effort to eliminate duplication of OMB guidance, OMB proposes to rescind Circular A-109, and continue to update Circular A-11 and Circular A-130 with current guidance on planning, budgeting, and acquisition of capital assets. OFPP requests comments on this proposed rescission.

Kenneth J. Oscar,
Deputy Administrator (Acting).

[FR Doc. 00-21312 Filed 8-21-00; 8:45 am]

BILLING CODE 3110-01-P